DEPARTMENT OF COMMERCE

National Oceanic and Atmospheric Administration

RIN 0648-XV008

Pacific Fishery Management Council; Public Meeting

AGENCY: National Marine Fisheries Service (NMFS), National Oceanic and Atmospheric Administration (NOAA), Commerce.

ACTION: Notice of public meeting (webinar).

SUMMARY: The Groundfish Subcommittee of the Pacific Fishery Management Council's (Pacific Council's) Scientific and Statistical Committee (SSC) will hold a meeting to review new benchmark and update assessments and catch-only update assessment projections to inform new 2021 and 2022 groundfish harvest specifications. The meeting is open to the public.

DATES: The SSC Groundfish Subcommittee webinar will be held Tuesday, August 20 and Wednesday, August 21, 2019, beginning at 8:30 a.m. each day and continuing until 5:30 p.m. Pacific Daylight Time or until business for the day has been completed.

ADDRESSES: The SSC's Groundfish Subcommittee meeting will be an in-person meeting and will also be held by webinar. The SSC's Groundfish Subcommittee meeting will be held in the Auditorium at the National Marine Fisheries Service, Northwest Fisheries Science Center, 2725 Montlake Blvd. E, Seattle, WA 98111; telephone: (206) 860-3200. To attend the webinar, visit: https://nwfscfram.webex.com/nwfscfram. Enter the Webinar Access Code, which is 626 668 260, and your name and email address (required). After logging into the webinar, dial the TOLL number (not a toll-free number) 1-650-479-3208 or connect audio using the computer. Technical Information and System Requirements: PC-based attendees are required to use Windows® 7 or newer; Mac®-based attendees are required to use Mac OS® X 10.10 or newer. Webex supports all major iPhone®, iPad®, Android™ phone or Android tablet OS 4.3 or newer (See webex system requirements: https://help.webex.com/en-us/nki3xrq/Webex-Meetings-Suite-System-Requirements#reference_91D7DC41368764B9E37B8593ED86A11C). You may send an email to Dr. Owen Hamel at Owen.Hamel@noaa.gov or contact him at (206) 860-3481 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Groundfish Subcommittee meeting is to review groundfish stock assessments and catch-only updates that will inform management decisions for 2021 and beyond. Specifically, the SSC Groundfish Subcommittee will review new benchmark assessments and Stock Assessment Review panel reports for cabezon, longnose skate, big skate, sablefish, cowcod, and gopher/black-and-yellow rockfish; as well as new update assessments for petrale sole and widow rockfish. The SSC Groundfish Subcommittee will also review catch-only update projections for black rockfish, blackgill rockfish, brown rockfish, California blue/deacon rockfish north of Pt. Conception, canary rockfish, China rockfish, darkblotched rockfish, Dover sole, lingcod, longspine thornyhead, rougheye/blackspotted rockfish, shortspine thornyhead, and yelloweye rockfish.

No management actions will be decided by the SSC's Groundfish Subcommittee. The SSC Groundfish Subcommittee members' role will be development of recommendations and reports for consideration by the SSC and Pacific Council at the September meeting in Boise, ID.

Although nonemergency issues not contained in the meeting agendas may be discussed, those issues may not be the subject of formal action during these meetings. Action will be restricted to those issues specifically listed in this notice and any issues arising after publication of this notice that require emergency action under section 305(c) of the Magnuson-Stevens Fishery Conservation and Management Act, provided the public has been notified of the intent of the SSC Groundfish Subcommittee to take final action to address the emergency.

Visitors who are foreign nationals (defined as a person who is not a citizen or national of the United States) will require additional security clearance to access the NMFS Northwest Fisheries Science Center. Foreign national visitors should contact Ms. Stacey Miller at (541) 867-0535 at least two weeks prior to the meeting date to initiate the security clearance process.

Special Accommodations

These meetings are physically accessible to people with disabilities. Requests for sign language interpretation or other auxiliary aids should be directed to Mr. Kris Kleinschmidt, (503) 820-2411, at least 10 business days prior to the meeting date.

Authority: 16 U.S.C. 1801 et seq.

Dated: July 25, 2019.
Tracey L. Thompson,
Acting Deputy Director, Office of Sustainable Fisheries, National Marine Fisheries Service.

[FR Doc. 2019-16143 Filed 7-29-19; 8:45 am]

BILLING CODE 3510-22-P